DEPARTMENT OF AGRICULTURE

Submission for OMB Review; Comment Request

February 29, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), Washington, DC, OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: McKenzie River and Trail Visitor Surveys, Flathead Wild and Scenic River Visitor Survey.

OMB Control Number: 0596-NEW.

Summary of Collection: The Forest and Rangeland Renewable Resources Planning Act of 1974 (RPA) (Pub. L. 93-378) guides planning and inventory activities on the National Forests. It requires the agency to inventory resources in the National Forests, including recreation opportunities, and to periodically review and update these assessments. The Forest Service Willamette National Forest and Flathead National Forest, in co-operation with National Park Service Glacier National Park, are proposing to conduct an information collection in 2012, from forest visitors using the Flathead and McKenzie and Wild and Scenic Rivers and McKenzie River National Recreational Trail. The McKenzie visitor survey will (1) support implementation of the existing Willamette National Forest Land and Resource Management Plan (USFS 1990) and Upper McKenzie River Management Plan (“UMRMP,” USFS 1992), (2) assess changes in visitor experience that have occurred since a previous river study in 1996, and (3) inform management practices to protect and enhance the outstandingly remarkable values identified for the McKenzie River, as required by the Wild and Scenic Rivers Act. The Flathead visitor survey, which is being conducted in partnership with Glacier National Park, will (1) support the development of a Comprehensive River Management Plan (CRMP) and, in particular, will assist managers in determining a user capacity for the river, both of which are statutory requirements of the Wild and Scenic River Act and (2) help determine the allocation of service days for outfitters and guides and develop thresholds and standards for important, measurable attributes.

Need and Use of the Information: The information will be used in conjunction with other information about natural resource conditions by Flathead and Willamette National Forest and Glacier National Park managers in taking actions to provide optimum recreation experiences for visitors, while still protecting the natural resource. Information from this study will help managers determine how well river and trail values are being protected and what actions may be needed to ensure the outstandingly remarkable values for which the rivers were designated is protected and enhanced. The surveys will be administered on-site. Collecting thoughts from the public on how these areas should be managed and consideration of their interest and priorities is a critical component to developing a fair and balanced management plan and strategy. Without the public's involvement, a plan has the risk of being biased and ineffective. Without the information from this survey, managers would not have representative information about public perceptions and preferences.

Description of Respondents: Individuals or households.

Number of Respondents: 3,000.

Frequency of Responses: Reporting: On occasion.

Total Burden Hours: 394.

Ruth Brown,
Departmental Information Collection Clearance Officer.

[FR Doc. 2012-5325 Filed 3-5-12; 8:45 am]

BILLING CODE 3410-11-P